FEDERAL RESERVE SYSTEM

Change in Bank Control Notices, Acquisition of Shares of Bank or Bank Holding Companies; Correction

This notice corrects a notice (FR Doc. E6-5996) published on page 20694 of the issue for Friday, April 21, 2006.

Under the Federal Reserve Bank of Atlanta heading, the entry for Algiers Bancorp, Inc., Baton Rouge, Louisiana, is revised to read as follows:

A. Federal Reserve Bank of Atlanta (Andre Anderson, Vice President) 1000 Peachtree Street, N.E., Atlanta, Georgia 30303:

1. The Robin and Cherie Arkley Revocable Algiers Bancorp Stock Trust, Eureka, California,;with Robin P. Arkley II and Cherie P. Arkley, Eureka, California, as trustee; the Allison E. Arkley Trust #5, Eureka, California, with Calvin Richard Jones, managing member of CTT, LLC, Eureka, California, and John L. Piland as trustees; and the Elizabeth A. Arkley Trust #5, with Calvin Richard Jones, managing member of CTT, LLC, Eureka, California, and John L. Piland as trustees; and Jack J. Mendheim and Stephanie C. Mendheim, Folsom, Louisiana, all to acquire voting shares of Algiers Bancorp, Inc., Baton Rouge, Louisiana, and thereby indirectly acquire voting shares of Statewide Bank, Terrytown, Louisiana.

Comments on this application must be received by May 8, 2006.

Board of Governors of the Federal Reserve System, April 24, 2006.
Robert deV. Frierson,
Deputy Secretary of the Board.

[FR Doc. E6-6371 Filed 4-27-06; 8:45 am]

BILLING CODE 6210-01-S